DEPARTMENT OF DEFENSE

Office of the Secretary

[Transmittal Nos. 12-61]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 12-61 with attached transmittal, and policy justification.

Dated: November 26, 2012.
Aaron Siegel,
Alternate OSD Federal Register Liaison Officer, Department of Defense.

BILLING CODE 5001-06-P

BILLING CODE 5001-06-C

Transmittal No. 12-61

Notice of Proposed Issuance of Letter of Offer Pursuant to Section 36(b)(1) of the Arms Export Control Act, as amended

(i) Prospective Purchaser: Kingdom of Saudi Arabia

(ii) Total Estimated Value:

Major Defense Equipment* | $ 0 million
Other | $300 million
Total | $ 300 million

(iii) Description and Quantity or Quantities of Articles or Services under Consideration for Purchase: a Foreign Military Sales Order (FMSO) II to provide funds for blanket order requisitions under the Cooperative Logistics Supply Support Arrangement (CLSSA), for spare parts in support of M1A2 Abrams Tanks, M2 Bradley Fighting Vehicles, High Mobility Multipurpose Wheeled Vehicles (HMMWVs), equipment, support vehicles and other related logistics support.

(iv) Military Department: Army (KYM)

(v) Prior Related Cases, if any:

SR-B-KYL—$254million—17Nov06

SR-B-KSB—$95million—2Nov04

SR-B-KRK—$314million—19Apr91

SR-B-KRI—$40million—18Dec90

SR-B-KRE—$47million—9Nov87

SR-B-KRB—$36million—26Mar85

SR-B-KRA—$22million—23Mar84

SR-B-KLF—$28million—1Dec82

SR-B-KEZ—$26million—22Nov80

SR-B-UBW—$64million—13Oct66

(vi) Sales Commission, Fee, etc., Paid, Offered, or Agreed to be Paid: None

(vii) Sensitivity of Technology Contained in the Defense Article or Defense Services Proposed to be Sold: None

(viii) Date Report Delivered to Congress: 21 Nov 2012

* as defined in Section 47(6) of the Arms Export Control Act.

POLICY JUSTIFICATION

Kingdom of Saudi Arabia—Cooperative Logistics Supply Support Arrangement

The Government of the Kingdom of Saudi Arabia (KSA) has requested a possible sale of a Foreign Military Sales Order (FMSO) II to provide funds for blanket order requisitions under the Cooperative Logistics Supply Support Arrangement (CLSSA), for spare parts in support of M1A2 Abrams Tanks, M2 Bradley Fighting Vehicles, High Mobility Multipurpose Wheeled Vehicles (HMMWVs), equipment, support vehicles and other related logistics support. The estimated cost is $300 million.

This proposed sale will contribute to the foreign policy and national security of the United States by helping to improve the security of a friendly country that has been, and continues to be, an important force for political stability and economic progress in the Middle East.

This proposed sale will allow the Royal Saudi Land Forces Ordnance Corps to continue to purchase needed repair parts to maintain their fleet of M1A2S Abrams Tanks, M2 Bradley Fighting Vehicles, and High Mobility Multipurpose Wheeled Vehicles (HMMWVs), construction equipment, and support vehicles and equipment.

The proposed sale of this equipment and support will not alter the basic military balance in the region.

There are no prime contractors involved with this sale. There are no known offset agreements in connection with this potential sale.

Implementation of this proposed sale will not require the assignment of any additional U.S. Government or contractor representatives to Saudi Arabia.

There will be no adverse impact on U.S. defense readiness as a result of this proposed sale.

[FR Doc. 2012-28937 Filed 11-29-12; 8:45 am]

BILLING CODE 5001-06-P